DEPARTMENT OF AGRICULTURE

Forest Service

Methow Valley Ranger District, Okanogan & Wenatchee National Forests, WA, Pack Stock Outfitter Guide Special Use Permits Environmental Impact Statement

AGENCY: Forest Service, USDA.

ACTION: Notice of intent to prepare an environmental impact statement.

SUMMARY: Notice is hereby given that the USDA, Forest Service will prepare an Environmental Impact Statement that will evaluate alternatives to provide pack stock outfitter and guide services on the Methow Valley, Chelan and Tonasket Ranger Districts of the Okanogan and Wenatchee National Forests. The proposed action is to issue ten-year, pack stock outfitter and guide special use permits to nine companies to operate on these three Districts. A maximum of 4,900 client days will be shared between these companies. Outfitting and guiding would take place both in the Lake Chelan-Sawtooth and Pasayten Wildernesses, and outside of wilderness.

DATES: Comments concerning the scope of the analysis must be received by July 15, 2005. The draft environmental impact statement is expected December 2005 and the final environmental impact statement is expected May 2006.

ADDRESSES: Send written comments to Jennifer Zbyszewski, Recreation & Wilderness Program Manager, Methow Valley Ranger District, 24 W. Chewuch Rd., Winthrop WA 98862, or by e-mail to jzbyszewski@fs.fed.us.

FOR FURTHER INFORMATION CONTACT: Direct questions to Jennifer Zbyszewski, Recreation & Wilderness Program, Manager, Methow Valley Ranger District, 24 W. Chewuch Rd., Winthrop WA 98862, (509) 996-4021, or by e-mail to jzbyszewski@fs.fed.us.

SUPPLEMENTARY INFORMATION:

Purposed and Need for Action

Nine companies have applied to the Forest Service for ten year permits to outfit and guide on the Methow Valley, Chelan and/or Tonasket Ranger District of the Okanogan and Wenatchee National Forests. North Cascade Safari, Cascade Wilderness Outfitters, North Cascade Outfitters, Rocking Horse Ranch, and Backcountry Burros have operated under five-year term special use permits in the past, but these permits expired in 2000. The companies have been operating under short-term permits since then. Each of these companies have operated for at least 20 years on the Okanogan and Wenatchee National Forests. Deli-Llamas and Pasayten Llamas have operated under short-term permits since 1993. Sawtooth Outfitters has operated under short-term permits since 1993. Early Winters Outfitting's term permit expired in 2004.

In order for an outfitter-guide business to be successful, and justify financial commitments, such as purchasing and caring for stock animals, and hiring experienced guides, these businesses need multi-year permits. Multi-year permits are needed to respond to the applications, and continue the professional relationship that has been established with these companies to provide service to the public.

The Forest Service has identified a need for outfitting and guiding services on these Districts to access to the Wilderness and backcountry. The “Assessment for Need For Outfitting/Guiding Assistance, Okanogan National Forest, Chelan Ranger District Portion of Wenatchee National Forest North of Lake Chelan” (the Needs Assessment) was completed by the Okanogan and Wenatchee National Forests in 1996. That document provides overall guidance relating to issuing permits.

The Needs Assessment states that the relative public need for outfitting/guiding assistance ranges from high to low based on the type of activity. The justification for authorizing outfitting and guiding operations is proportional to the public's need for outfitting-guiding assistance. Appendix H in the assessment (page H-1) shows that pack animal trips and drop camps carry a high rating for skills and equipment, knowledge, safety risk, unique services provided, and wilderness dependency.

In addition Okanogan National Forest Land and Resource Management Plan, 1989, standard and guideline MA 15B-21Q, requires retention of the current number and type of outfitter guide authorizations and the current amount of priority use allocated to outfitter guides. The Wenatchee National Forest Land and Resource Management Plan, 1990, as amended (which covers the portion of the permit areas on the Chelan Ranger District) states that outfitter guide permits will be issued when appropriate to the goals of wilderness management and where compatible with Wilderness management objectives, and existing visitor use.

Proposed Action

The Forest Supervisor for the Okanogan and Wenatchee National Forests proposes to issue ten-year, special use permits to each of the following companies: North Cascade Safari, Cascade Wilderness Outfitters, North Cascade Outfitters, Early Winters Outfitting, Rocking Horse Ranch, Sawtooth Outfitters, Backcountry Burros, Deli-Llamas, and Pasayten Llamas in 2006. These outfitters take people into the Wilderness and other remote areas using pack and riding animals (horses, mules, llamas, and burros). Most of the trips are several-night camping expeditions, although some of the use involves day-rides. The outfitters offer client a variety of trip-types to meet needs, expectations, and budgets. Trips range from guided horseback riding trips with meals, cook, and most or all camping gear provided to day trips, and also include simply dropping gear off for hikers.

The maximum number of client days that would be divided between these outfitters, or replacements for these outfitters who have met the requirements for term permits, would be 4,900, which is the total of the highest annual number of client days each has used over the past ten years.

The analysis area (which includes all the permit areas) is located on the Okanogan and Wentachee National Forests. Most of it is on the Methow Valley Ranger District, with some continuing onto the Tonasket and Chelan Districts. It includes all of the Pasayten and Lake Chelan/Sawthooth Wildernesses, the North Cascades Highway Corridor, the Sawtooth Backcountry, the North Summit, and some National Forest System land adjacent to these areas. There would be no changes in permit areas from the areas recently permitted in the past.

Reserved camps would be assigned to the horse and mule packers to allow closer monitoring and modification. Proposed camp locations would include Bald Mountain, Sheep Mountain, Beaver Creek, Crow Lake, and Whistler. The reserved camps would be primarily used for guided horseback riding trips with meals, cook, and most or all camping gear provided. Camp locations for all other trips would not be assigned.

Responsible Official

The Responsible Official is James L. Boynton, Forest Supervisor, Okanogan and Wenatchee National Forests, 215 Melody Lane, Wenatchee, WA 98801.

Nature of Decision To Be Made

The Responsible Official will decide whether or not to issue term permits to the outfitters described in the proposed action. He will also decide what, if any, mitigation measures and monitoring are needed. The criteria that will be used to select between the alternatives are: (1) To what extent the alternative is consistent with Okanogan Forest Plan standard and guideline 15B 21-Q, and the standard and guideline from the Wenatchee Forest Plan, (2) to what extent the alternative provides enough stability to the businesses to allow them to make the financial commitments necessary to continue to provide service to the public, (3) to what extent the action meets the needs identified in the 1996 Outfitter Guide Needs Assessment, and (4) the effects of the alternative on the environment.

Scoping Process

In November 2000, as scoping letter was sent to people and organizations that had expressed interest, in addition to those of the Methow Valley Ranger District mailing list. An updated letter is being sent concurrently with this notice of intent to everyone who received the first letter, in addition to everyone on the Tonasket, Methow Valley, and Chelan Ranger Districts mailing lists. All comments received will be used to identify issues, and develop alternatives.

Comment Requested

This notice of intent initiates the scoping process which guides the development of the environmental impact statement. The Forest Service is seeking public and agency comment on the proposed action to identify major issues to be analyzed in depth and assistance in identifying possible alternatives to be evaluated. Comments received to this notice, including the names and addresses of those who comment, will be considered part of the public record on this proposed action, and will be available for public inspection. Comments submitted anonymously will be accepted and considered, whoever those commenters will not have standing for appeal under 36 CFR 215.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F.Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

In the final EIS, the Forest Service is required to respond to comments and responses received during the comment period that pertain to the environmental consequences discussed in the draft EIS and applicable laws, regulations, and policies considered in making a decision regarding the proposal. The Forest Supervisor for the Okanogan and Wenatchee National Forests will be the Federal responsible official for this EIS and its Record of Decision, and his decision will be subject to appeal pursuant to 36 CFR 215.

(Authority: 40 CFR 1501.7 and 1508.22; Forest Service Handbook 1909.15, Section 21).
G. Elton Thomas,
Deputy forest Supervisor, Okanogan-Wenatchee National Forest.

[FR Doc. 05-12290 Filed 6-21-05; 8:45 am]

BILLING CODE 3410-11-M